DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Quota Cost Recovery Programs.

OMB Control Number: 0648-0711.

Form Number(s): None.

Type of Request: Regular (revision and extension of a currently approved information collection).

Number of Respondents: 2,047.

Average Hours per Response: 1 minute for cost recovery fee, observer coverage fee, and Value and Volume Report; 4 hours for Appeals for any person who receives an IAD for incomplete payment of a fee liability.

Burden Hours: 97.

Needs and Uses: This request is for revision and extension of an existing information collection.

Three existing collections are being merged into this collection: OMB control numbers 0648-0727, 0648-0758, and 0648-0764.

The Magnuson-Stevens Fishery and Conservation Act both authorizes and requires the collection of cost recovery fees for Limited Access Privilege (LAP) programs and Western Alaska Community Development Quota (CDQ) programs. The cost recovery fees may not exceed three percent of the ex-vessel value, and must recover costs associated with the management, data collection, and enforcement of these programs that are directly incurred by government agencies tasked with overseeing these fisheries.

In addition, NMFS collects observer coverage fees to support the funding and deployment of observers on vessels and in plants in the partial observer coverage category. The observer coverage fee must be paid by permit holders in the partial observer coverage category, i.e., small catcher/processors, catcher vessels, shoreside processors, and stationary floating processors named on a Federal Fisheries Permit, or a person named on a Registered Buyer permit.

Processors that receive and purchase landings of IFQ halibut or sablefish, rockfish, groundfish, and crab subject to observer and/or cost recovery fees must submit an Ex-vessel Value and Volume report under 50 CFR 679.5 or 50 CFR 680.5 that provides information on the pounds purchased and value paid. NMFS uses this information to establish the total ex-vessel value of the fishery, to calculate standard prices, and to establish annual fee percentages in each fishery.

Affected Public: Business or other for-profit organizations; individuals or households.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 14, 2018.
Sarah Brabson,
NOAA PRA Clearance Officer.

[FR Doc. 2018-27463 Filed 12-18-18; 8:45 am]

BILLING CODE 3510-22-P